DEPARTMENT OF AGRICULTURE

Food and Nutrition Service

Agency Information Collection Activities: Proposed Collection: Comment Request—Form FNS-380-1, Supplemental Nutrition Assistance Program's Quality Control Review Schedule

AGENCY: Food and Nutrition Service (FNS), USDA.

ACTION: Notice.

SUMMARY: In accordance with the Paperwork Reduction Act of 1995, this notice invites the general public and other public agencies to comment on this proposed information collection. This is a revision of a currently approved collection.

DATES: Written comments must be received on or before August 16, 2019.

ADDRESSES: Comments may be sent to: Stephanie Proska, Food and Nutrition Service, U.S. Department of Agriculture, 3101 Park Center Drive, Room 822, Alexandria, VA 22302. Comments may also be submitted via fax to the attention of Stephanie Proska at 703-305-0928 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Quality Control Review Schedule.

Form Number: FNS 380-1.

OMB Control Number: 0584-0299.

Expiration Date: July 31, 2019.

Type of Request: Revision of a currently approved collection.

Abstract: The Supplemental Nutrition Assistance Program's (SNAP) Quality Control (QC) Review Schedule form (FNS 380-1) collects QC and household characteristics data. The information needed to complete this form is obtained from the SNAP case record and State agencies quality control findings. The information is used to monitor and reduce errors, develop policy strategies, and analyze household characteristic data.

Affected Public: 53 State, Local and Tribal Governments.

Estimated Number of Responses per Respondent: 858.43.

Estimated Total Annual Responses: 90,994. This includes 45,497 responses to report on sampled active case files for QC review and 45,497 records maintained by States.

Estimated Time per Response: 1.0796 hours for reporting and recordkeeping. The estimated time of response for State agencies to report is approximately 1.056 hours per response and the estimated response time for State agencies to do recordkeeping is approximately 0.0236 hours per record.

Estimated Total Annual Burden on Respondents: 49,118.56 hours.

See the table below for estimated total annual burden for each type of respondent.

Reporting and Recordkeeping Burden
Respondent | Estimated # respondents | Responses annually per respondent | Total annual responses (Col. bxc) | Estimated avg. # of hours per response | Estimated total hours (Col. dxe)
State Agencies—Reporting | 53 | 858.43 | 45,497 | 1.056 | 48,044.83
State Agencies—Recordkeeping | 53 | 858.43 | 45,497 | 0.0236 | 1,073.73
Total Reporting Burden | 53 |  | 90,994 | 1.0796 | 49,118.56

Dated: June 10, 2019.
Brandon Lipps,
Administrator, Food and Nutrition Service.

[FR Doc. 2019-12638 Filed 6-14-19; 8:45 am]

BILLING CODE 3410-30-P